DEPARTMENT OF COMMERCE

National Institute of Standards and Technology

National Advisory Committee on Windstorm Impact Reduction Meeting

AGENCY: National Institute of Standards and Technology, Department of Commerce.

ACTION: Notice of open meeting.

SUMMARY: The National Advisory Committee on Windstorm Impact Reduction (NACWIR or Committee), will hold a webinar initiating the work of the Committee via video conference on Wednesday, May 17, 2017, from 9:00 a.m. to 1:00 p.m. Eastern Time. This will be the first meeting of the Committee and is intended to provide Committee members and the public with a description of the statutory requirements and scope of work of the Committee, an overview of the National Windstorm Impact Reduction Program (NWIRP) and the draft NWIRP Strategic Plan, and to propose timeframes and milestones for the work of the Committee. Interested members of the public will be able to view the webinar and participate from remote locations by calling in to a central phone number.

DATES: The NACWIR will hold a meeting via video conference on Wednesday, May 17, 2017, from 9:00 a.m. until 1:00 p.m. Eastern Time. The meeting will be open to the public.

ADDRESSES: Questions regarding the meeting should be sent to the National Windstorm Impact Reduction Program Director, National Institute of Standards and Technology (NIST), 100 Bureau Drive, Mail Stop 8611, Gaithersburg, Maryland 20899. Anyone wishing to participate must register by 5:00 p.m. Eastern Time, Wednesday, May 10, 2017. For instructions on how to participate in the meeting, please see the SUPPLEMENTARY INFORMATION section of this notice.

FOR FURTHER INFORMATION CONTACT: Steve Potts, Management and Program Analyst, NWIRP, Engineering Laboratory, NIST, 100 Bureau Drive, Mail Stop 8611, Gaithersburg, Maryland 20899. He can also be contacted by email at Stephen.potts@nist.gov; or by phone at (301) 975-5412.

SUPPLEMENTARY INFORMATION: The National Advisory Committee on Windstorm Impact Reduction (NACWIR) was established in accordance with the requirements of the National Windstorm Impact Reduction Act Reauthorization of 2015, Public Law 114-52. The NACWIR is charged with offering assessments and recommendations on—

• trends and developments in the natural, engineering, and social sciences and practices of windstorm impact mitigation;

• the priorities of the Strategic Plan for the National Windstorm Impact Reduction Program (Program);

• the coordination of the Program;

• the effectiveness of the Program in meeting its purposes; and

• any revisions to the Program which may be necessary.

Background information on NWIRP and the Committee is available at https://www.nist.gov/news-events/news/2016/07/nist-leads-federal-effort-save-lives-and-property-windstorms.

Pursuant to the Federal Advisory Committee Act, as amended, 5 U.S.C. App., notice is hereby given that the NACWIR will hold a webinar initiating the work of the Committee via video conference on Wednesday, May 17, 2017, from 9:00 a.m. to 1:00 p.m. Eastern Time. This will be the first meeting of the Committee and is intended to provide Committee members and the public with a description of the statutory requirements and scope of work of the Committee, an overview of the NWIRP and the draft NWIRP Strategic Plan, and to propose timeframes and milestones for the work of the Committee. The agenda and meeting materials will be posted on the NACWIR Web site at https://www.nist.gov/el/mssd/nwirp/national-advisory-committee-windstorm-impact-reduction.

All participants of the meeting are required to pre-register. Please submit your first and last name, email address, and phone number to Steve Potts at Stephen.potts@nist.gov or (301) 975-5412. After pre-registering, participants will be provided with detailed instructions on how to join the video conference remotely. Approximately 15 minutes will be reserved from 12:35 p.m.-12:50 p.m. Eastern Time for public comments. Speaking times will be assigned on a first-come, first-served basis. The amount of time per speaker will be determined by the number of requests received. Speakers who wish to expand upon their oral statements, those who had wished to speak but could not be accommodated, and those who were unable to participate are invited to submit written statements to NACWIR, National Institute of Standards and Technology, 100 Bureau Drive, MS 8611, Gaithersburg, Maryland 20899, or electronically by email to stephen.potts@nist.gov.

Dated: April 27, 2017.
Kevin Kimball,
Chief of Staff.

[FR Doc. 2017-08881 Filed 5-2-17; 8:45 am]

BILLING CODE 3510-13-P